DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and who have been removed from the list of Specially Designated Nationals and Blocked Persons.

DATES: See SUPPLEMENTARY INFORMATION section for effective date(s).

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On January 13, 2025, OFAC determined that the property and interests in property subject to U.S. jurisdiction of the following persons are unblocked and they have been removed from the SDN List under the relevant sanctions authorities listed below.

Individuals

1. GASTELUM SERRANO, Francisco Javier; DOB 02 Dec 1964; POB Culiacan, Sinaloa, Mexico; citizen Mexico; C.U.R.P. GASF641202HSLSRR09 (Mexico) (individual) [SDNTK].

2. BEDOYA VELEZ, Jose Ignacio (a.k.a. “NACHO BEDOYA”), Calle 16 No. 71A-07/09, Cali, Colombia; Carrera 1G No. 71-07, Cali, Colombia; DOB 06 Jan 1959; POB Tulua, Valle, Colombia; alt. POB Armenia, Quindio, Colombia; citizen Colombia; Cedula No. 16351225 (Colombia) issued 20 Jun 1977; Passport AJ126708 (Colombia) issued 26 Mar 2004; alt. Passport 16351225 (Colombia) issued 26 Mar 2004 expires 26 Mar 2014 (individual) [SDNT].

3. MEZA CAZARES, Gipsy (a.k.a. MEZA CAZAREZ, Gipsy; a.k.a. MEZA CAZAREZ, Gipzy; a.k.a. MEZA GASTELLUM, Gipsy), Mariano Escobedo No. 366-102, Colonia Centro, Culiacan, Sinaloa, Mexico; Calle G. Robles No. 153, Colonia Almada Sur, Culiacan, Sinaloa, Mexico; No. 626 Calle Benito Juarez, Culiacan, Sinaloa, Mexico; c/o SISTEMA DE RADIO DE SINALOA, S.A. DE C.V., Culiacan, Sinaloa, Mexico; c/o CONSORCIO INMOBILIARIO DEL VALLE DE CULIACAN, S.A. DE C.V., Culiacan, Sinaloa, Mexico; c/o COMERCIAL JOANA, S.A. DE C.V., Guadalajara, Jalisco, Mexico; DOB 24 Sep 1973; alt. DOB 24 Sep 1972; POB Culiacan, Sinaloa, Mexico; nationality Mexico; citizen Mexico; R.F.C. MECG730924N73 (Mexico); alt. R.F.C. MECG720924N75 (Mexico) (individual) [SDNTK].

4. PATRACA PONCE, Jorge Normando, Escobedo No. 366 Oriente, Departamento No. 102, Culiacan, Sinaloa, Mexico; Calle Mariano Escobedo No. 366-102, Colonia Centro, Tijuana, Baja California, Mexico; Edo. de Tabasco #1423, Culiacan, Sinaloa, Mexico; c/o SISTEMA DE RADIO DE SINALOA, S.A. DE C.V., Culiacan, Sinaloa, Mexico; c/o OPERADORA INTEGRAL DE COMERCIO, S.A. DE C.V., Tijuana, Baja California, Mexico; Cll Cerro de San Cayetano 728, Colinas de San Miguel, Culiacan Circuito Ceroo de la Silla, Culiacan Rosales, Culiacan, Mexico; Avenida Jose Maria Morelos 302 Pte, Local 3, Col. Sector Culiacan Centro, Culiacan, Sinaloa 80000, Mexico; DOB 23 Apr 1974; POB Culiacan, Sinaloa, Mexico; alt. POB Tijuana, Baja California, Mexico; nationality Mexico; citizen Mexico; Passport 040015561 (Mexico); R.F.C. PAPJ740423DB8 (Mexico); Electoral Registry No. PTPNJR74042325H500 (Mexico) (individual) [SDNTK].

Entities

1. INVERSIONES TURISTICAS JOYA GRANDE, S.A. DE C.V. (a.k.a. JOYA GRANDE; a.k.a. JOYA GRANDE ZOOLOGICO Y ECOPARQUE; a.k.a. ZOO JOYA GRANDE; a.k.a. ZOOLOGICO JOYA GRANDE; a.k.a. ZOOLOGICO Y ECO-PARQUE JOYA GRANDE), Colonia Moderna, San Pedro Sula, Cortes, Honduras; Km. 9 despues de Santa Cruz de Yojoa, San Pedro Sula, Cortes, Honduras; RTN 08019011356332 (Honduras) [SDNTK].

2. ANDAMIOS DALMINE DE MEXICO, S.A., J.J. Rousseau #14, Colonia Anzures, Distrito Federal C.P. 11590, Mexico; Calzada Aeropuerto #7258, Colonia Bachigualato, Culiacan, Sinaloa, Mexico; Tuberosa #215, Colonia San Carlos, Guadalajara, Jalisco, Mexico; Avenida Guerrero #3298 Norte, Colonia Del Norte, Monterrey, Nuevo Leon, Mexico; Avenida 20 de Noviembre #12621, Colonia 20 de Noviembre, Tijuana, Baja California Norte, Mexico; Bugambilia #6313, Colonia Bugambilias, Puebla, Puebla, Mexico; Boulevard Luis Donaldo, Colosio Kilometer 10 Lote 44, Colonia Alfredo V. Bonfil, Cancun, Quintana Roo, Mexico; Calle 20 de Noviembre #8, Colonia Tezontepec, Cuernavaca, Morelos, Mexico; Avenida La Paz #3308, Colonia Santa Rosa, Los Cabos, Baja California Sur, Mexico; Carretera Internacional al Norte Kilometer 15, Bodega 309, El Venadillo, Mazatlan, Sinaloa, Mexico; Poniente 134 #769, Colonia Industrial Vallejo, Distrito Federal, Mexico; Constituyentes de 1975, #4770, Colonia Puesta del Sol, La Paz, Baja California Sur, Mexico; Roberto Barrios #2, Colonia Casa Blanca, Queretaro, Queretaro, Mexico; Cardenal #106, Colonia Los Sauces, Puerto Vallarta, Jalisco, Mexico; RFC ADM821230NBO (Mexico) [SDNTK].

Dated: January 13, 2025.
Gregory T. Gatjanis,
Associate Director, Office of Foreign Assets Control.

[FR Doc. 2025-01881 Filed 1-28-25; 8:45 am]

BILLING CODE 4810-AL-P